DEPARTMENT OF HEALTH AND HUMAN SERVICES

Administration for Children and Families

Proposed Information Collection Activity; Comment Request

Proposed Projects:

Title: National Survey of Child and Adolescent Well-Being—Second Cohort (NSCAW II).

OMB No.: 0970-0202.

Description: The Department of Health and Human Services (HHS) intends to collect data on a new sample of children and families for the National Survey of Child and Adolescent Well-Being (NSCAW). The NSCAW was authorized under Section 427 of the Personal Responsibility and Work Opportunities Reconciliation Act of 1996. The original survey began in November 1999 with a national sample of 5,501 children, ages 0-14, who had been the subject of investigation by Child Protective Services during the baseline data collection period, which extended from November 1999 through April 2000. Direct assessments and interviews were conducted with the children themselves, their primary caregivers, their caseworkers, and, for school-aged children, their teachers; agency directors also were interviewed at baseline. Follow-up data collections were conducted 12 months, 18 months, and 36 months post-baseline, and a fifth data collection is currently under way.

The NSCAW is the only source of nationally representative, firsthand information about the functioning and well-being, service needs, and service utilization of children and families who come to the attention of the child welfare system. Information is collected about children's cognitive, social, emotional, behavioral, and adaptive functioning, as well as family and community factors that are likely to influence their functioning. Family service needs and service utilization also are addressed in the data collection.

The current data collection plan calls for selecting a new cohort of 5,700 children and families and repeating the data collection procedures used in the original study. Selection of a new cohort will allow the comparison of characteristics of children who are entering the child welfare system today with those who entered prior to the implementation of the Adoption and Safe Families Act and prior to the advent of the Child and Family Services Review process. The data collection will follow the same format as that used in previous rounds of data collection, and will employ, with only modest revisions, the same instruments that have been used in previous rounds.

Currently, HHS intends to collect baseline data and one follow-up 18 months later, with future follow-up rounds contingent on funding availability. Data from NSCAW are made available to the research community through licensing arrangements from the National Data Archive on Child Abuse and Neglect at Cornell University.

Respondents: 5,700 Children and their associated permanent or foster caregivers, caseworkers, and teachers; in addition, an administrator will be interviewed in each location from which children are sampled.

Annual Burden Estimates
Instrument | Number of respondents | Number of responses per respondent | Average burden hours per response | Total burden hours
Child Interview | 5,700 | 1 | 1.2 | 6,840
Permanent Caregiver Interview | 3,800 | 1 | 2.0 | 7,600
Foster Caregiver Interview | 1,990 | 1 | 1.5 | 2,985
Caseworker Interview | 5,700 | 1 | 1.0 | 5,700
Teacher Questionnaire | 3,000 | 1 | .75 | 2,250
Agency Questionnaire | 97 | 1 | 1.0 | 97

Estimated Total Annual Burden Hours: 25,472.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 15, 2007.
Brendan C. Kelly,
Reports Clearance Officer.

[FR Doc. 07-4110 Filed 8-21-07; 8:45 am]

BILLING CODE 4184-07-M